NATIONAL TRANSPORTATION SAFETY BOARD

Information Collection Activity; Comment Request; Renewal of NTSB Form 6120.1

AGENCY: National Transportation Safety Board (NTSB).

ACTION: First notice.

SUMMARY: The NTSB plans to submit an Information Collection Request (ICR) to the Office of Management and Budget (OMB) to continue using NTSB Form 6120.1, a previously approved information collection.

DATES: Submit written comments regarding the renewal of this information collection by November 13, 2017.

ADDRESSES: Interested members of the public may submit written comments on this collection of information to the NTSB Office of Aviation Safety, 490 L'Enfant Plaza SW., Washington, DC 20594.

FOR FURTHER INFORMATION CONTACT: Darrin Broadwater, NTSB Office of Aviation Safety, (202) 314-6370.

SUPPLEMENTARY INFORMATION: Pursuant to the Paperwork Reduction Act, 44 U.S.C. Ch. 35, and OMB regulations, 5 CFR part 1320, the NTSB seeks public comment on this proposed renewal of an information collection. By completing Form 6120.1, aircraft operators provide the NTSB with information needed to facilitate the NTSB's investigation of aircraft accidents. This renewal request is not associated with a rulemaking activity.

I. Paperwork Reduction Act Requirement

OMB regulations require that the NTSB notify the public that it may submit comments on this proposed information collection. Prior to submitting a collection of information to OMB for approval, 5 CFR 1320.8(d)(1) requires an agency to “provide 60-day notice in the Federal Register, and otherwise consult with members of the public and affected agencies concerning . . . [the] proposed collection of information.” Section 1320.8(d)(1) also requires the NTSB to solicit comments on any aspect of this information collection, including: (1) Whether the proposed collection is necessary for the NTSB to perform its mission; (2) the accuracy of the estimated burden; (3) ways for the NTSB to enhance the quality, usefulness, and clarity of the collected information; and (4) ways that the burden could be minimized without reducing the quality of the collected information. The NTSB will summarize and/or include the public's comments in its subsequent request for OMB approval of this information collection. 5 CFR 1320.10(a).

II. Description of NTSB Form 6120.1

An operator of a civil aircraft, a public aircraft not operated by the Armed Forces or an intelligence agency of the United States, or a foreign aircraft is required to report “immediately and by the most expeditious means available” to the nearest NTSB office (1) an aircraft accident, as defined in 49 CFR 830.2; (2) any of the serious incidents listed in 49 CFR 830.5; or (3) when an aircraft is overdue and believed to have been in an accident. 49 CFR 830.5. The NTSB recently established a web-based form, OMB Control Number 3147-0027, for reporting serious incidents listed in section 830.5(a).

After immediately notifying the NTSB, an operator is required to complete Form 6120.1, OMB Control Number 3147-0001, (1) within 10 days after an aircraft accident; (2) after 7 days if an overdue aircraft is still missing; or (3) as requested by an NTSB representative if the report is for a serious incident listed in 49 CFR 830.5(a).

The NTSB has been using Form 6120.1 for several years to collect information about aviation accidents and incidents. The Pilot/Operator Aircraft Accident/Incident Report Form is used in determining the facts, conditions, and circumstances of aircraft accidents, in conducting accident prevention activities, and for statistical purposes.

The 11-page form begins with two pages of definitions and instructions to assist operators in completing it. For each piece of information sought, the form provides space for a short written answer, a text box for a narrative answer, or a list of options with checkboxes. The form is divided into 18 categories:

Basic information—requests information concerning the location and date and time of the accident or incident, the phase of operation during which the accident or incident occurred, whether the occurrence was a collision with other aircraft, and the altitude if the event was an in-flight occurrence.

Aircraft information—requests the manufacturer, model, serial number, registration number, weight and center of gravity of the aircraft, whether the aircraft was amateur-built, category of aircraft, type of airworthiness certificate, number of seats, type of landing gear, type of maintenance program, type and date of last inspection, total time on airframe, type of fire extinguishing system, type of reciprocating fuel system, and type of propeller.

The aircraft information category also requests “yes” or “no” answers to the following: Whether the aircraft was instrument flight rules (IFR) equipped; whether it had a stall warning system installed; whether the emergency locator transmitter (ELT) was activated, and additional information about the ELT, such as whether it aided in locating the accident/incident, its manufacturer, model/series, serial number, and battery type.

This section of the form also requests detailed information concerning the engine(s) on the aircraft, such as the engine manufacturer, model/series, serial number, date of manufacture, type of power measurement (horsepower or pounds of thrust), total time on engine, time since last inspection, and time since overhaul. In the category entitled, “Other Aircraft—Collision,” the form requests a few types of information similar to that in the aircraft information category, such as the aircraft registration number, manufacturer and model, and the names and contact information for the registered owner and pilot of the other aircraft. Lastly, the form asks whether the aircraft sustained minor or no damage, substantial damage, or was destroyed.

Owner/operator information—requests specific information concerning the status of the aircraft. For example, the category includes requests for the names and contact information for both the owner and the operator of the aircraft, the Federal Aviation Regulation under which the flight was conducted, whether the flight was a revenue sightseeing flight or air medical flight, the purpose of the flight, the type of revenue operation, type of cargo operation (if applicable), and the type of commercial operating certificate the operator holds.

Airport information—if an accident or incident occurred on approach, takeoff, or within 3 miles of an airport, the form requests the airport name and identifier, the aircraft's proximity to airport (as off or on the airport or airstrip), the distance and direction from airport, the elevation of the airport, the approach segment, the type of IFR approach, the type of visual flight rules (VFR) approach, the runway information, and the type and condition of runway or landing surface.

Flight crewmember 1 information—requests the crewmember's name and contact information, date of birth, certificate number, degree of injury, seat occupied, principal occupation, pilot and medical certificates, date of last aviation medical examination, and medical certificate limitations and waivers, flight reviews, date of the last flight review and the type of aircraft used on the last flight review, aircraft ratings, instrument ratings, instructor ratings, type ratings, student endorsements, and restraints used.

This category ends with a chart requesting the crewmember's total flight time, pilot-in-command time, instructor time, time in this make/model, time during the last 90 days, time during the last 30 days, and time during the last 24 hours in all aircraft, the accident make and model, all single-engine aircraft, all multi-engine aircraft, night-time flights, instrument flights, rotorcraft, glider, and lighter-than-air aircraft.

Flight crewmember 2 information—is identical to the crewmember 2 category.

Additional flight crewmembers—requests pilot names and contact information, degree of injury, seat occupied, type of pilot certificates, whether the crewmember was type-rated for the aircraft involved in the accident or incident, and the total flight time at the time of the accident or incident.

Passengers/other personnel—requests the name, city, state, zip code, and seat number for each passenger, as well as whether the passenger is crew, non-revenue, revenue, non-occupant, or Federal Aviation Administration (FAA).

Flight itinerary information—requests place and time of last departure, destination, type of flight plan filed, type of air traffic control clearance or service, airspace where the accident or incident occurred, and a description of the aircraft load.

Weather information at the accident/incident site—requests the weather observation facility, source of weather information, type, method, and completeness of weather briefing, temperature, altimeter setting, density altitude, dew point, type and intensity of precipitation, forecasted and actual icing conditions, light condition, visibility and restrictions, sky and lowest cloud condition, type and height of ceiling, wind direction, speed, and gusts, type and severity of turbulence, and Notices to Airman and similar advisories in effect at the time of the flight.

Damage to aircraft and other property—requests information about aircraft damage, fire, or explosion, and provides space a narrative description of damage to the aircraft and other property.

Narrative history of flight—requests the operator to describe the circumstances of the accident or incident. This section instructs the operator to: “Describe what occurred in chronological order, including circumstances leading to and nature of accident/incident. Describe terrain and include wreckage distribution sketch if pertinent. Attach extra sheets if needed. State departure time and location, services obtained, and intended destination. Provide as much detail as possible.”

Recommendation—requests the operator to make a recommendation about how this accident or incident could have been prevented.

Mechanical malfunction/failure—if the operator believes the accident/incident resulted from a mechanical malfunction or failure, this section requests the name of the part, manufacturer, part number, serial number, total time/cycles on the part, total time since the part was inspected or overhauled, and a description of the failure.

Fuel and services information—requests the amount of fuel on board at the last takeoff (in gallons), the type of fuel, and any other services that may have occurred prior to takeoff.

Evacuation of aircraft—if an emergency evacuation occurred, the form requests the operator to describe how occupants exited and how many occupants exited each exit.

Other aircraft—collision—if an air or ground collision occurred, this section requests the registration number, manufacturer, model, owner and pilot of, and damage to the other aircraft.

Additional information—provides space for an operator to provide additional information about any of the previous sections.

The form concludes with a signature line and certification that the information provided on the form is complete and accurate to the best of the operator's knowledge.

III. Use of Information Provided on Form 6120.1

In general, the NTSB uses the information provided on Form 6120.1 to determine the facts, conditions, and circumstances for aircraft accident prevention activities and for statistical purposes. The NTSB typically receives several notifications for each accident or incident, but only requests completion of Form 6120.1 once the NTSB has determined it will pursue an investigation into the event.

The NTSB's investigations of aviation accidents and incidents are exhaustive. The NTSB utilizes a “party process,” as described in 49 CFR part 831, in which the NTSB invites outside entities to assist with an investigation as a “party.” The NTSB extends party status to those organizations that can provide the necessary technical assistance to the investigation. The investigator-in-charge (IIC), for example, often confers party status to the operator, aircraft, systems, and powerplant manufacturers, and labor organizations involved because of the accident circumstances. Everyone involved in an NTSB investigation, including the parties, depend on accurate information contained in Form 6120.1 to determine which areas warrant focus and attention. Overall, the NTSB considers Form 6120.1 to be critical to its statutory function of investigation accidents and incidents, and subsequently issuing safety recommendations to prevent future accidents and incidents.

The NTSB has carefully considered whether Form 6120.1 is duplicative of any other agency's collection of information. The NTSB is unaware of any form the Federal Aviation Administration (FAA) disseminates that requests the same information as Form 6120.1. However, the NTSB notes some operators may choose to provide a voluntary report to the National Aeronautics and Space Administration (NASA) in accordance with the Aviation Safety Reporting Program (ASRP). NASA will not accept ASRP reports about aircraft accidents; however, it is possible that an operator could report an incident listed in 49 CFR 830.5 to the NTSB on Form 6120.1, and contemporaneously submit an ASRP report about the incident to NASA.

Completing and filing Form 6120.1 is required. 49 CFR 830.15(a). The NTSB generally does not accept partially completed forms. NTSB investigators will exercise their discretion in requiring an operator to complete a partially completed form.

Currently, the NTSB accepts paper copies of Form 6120.1 sent via postal mail or facsimile, and a fillable PDF version of Form 6120.1 available on the NTSB Web site sent via email. The NTSB has received comments from various respondents who have requested an automated version of the form be available on the NTSB Web site. The NTSB is currently working to make the form available in such a manner, and is committed to providing the simplest manner of submission for all respondents.

The NTSB has carefully reviewed the form to ensure that it has used plain, coherent, and unambiguous language. The NTSB estimates that respondents will spend approximately 60 minutes completing the form. The NTSB estimates that approximately 1,500 operators will complete the form per year, but this number may vary, given the unpredictable nature and frequency of aviation accidents and incidents.

Robert L. Sumwalt, III,
Chairman.

[FR Doc. 2017-19177 Filed 9-8-17; 8:45 am]

BILLING CODE 7533-01-P